DEPARTMENT OF TRANSPORTATION

Federal Aviation Administration

14 CFR Part 39

[Docket No. FAA-2023-0927; Project Identifier MCAI-2023-00013-T; Amendment 39-22461; AD 2023-12-03]

RIN 2120-AA64

Airworthiness Directives; Airbus SAS Airplanes; Correction

AGENCY: Federal Aviation Administration (FAA), DOT.

ACTION: Final rule; correction.

SUMMARY: The FAA is correcting an airworthiness directive (AD) that was published in the Federal Register. That AD applies to certain Airbus SAS Model A350-941 and -1041 airplanes. As published, a European Union Aviation Safety Agency (EASA) AD number specified in the regulatory text is incorrect. This document corrects that error. In all other respects, the original document remains the same.

DATES: This correction is effective August 7, 2023. The effective date of AD 2023-12-03 remains August 7, 2023.

The Director of the Federal Register approved the incorporation by reference of a certain publication listed in this AD as of August 7, 2023 (88 FR 42598, July 3, 2023).

ADDRESSES:

AD Docket: You may examine the AD docket at regulations.gov under Docket No. FAA-2023-0927; or in person at Docket Operations between 9 a.m. and 5 p.m., Monday through Friday, except Federal holidays. The AD docket contains this final rule; correction, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this IBR material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2023-0927.

FOR FURTHER INFORMATION CONTACT: Dat Le, Aviation Safety Engineer, FAA, 1600 Stewart Avenue, Suite 410, Westbury, NY 11590; telephone 516-228-7317; email dat.v.le@faa.gov.

SUPPLEMENTARY INFORMATION:

Background

AD 2023-12-03, Amendment 39-22461 (88 FR 42598, July 3, 2023) (AD 2023-12-03), requires revising the existing maintenance or inspection program, as applicable, to incorporate new or more restrictive airworthiness limitations for airplane structures and safe life limits. That AD applies to certain Airbus SAS Model A350-941 and -1041 airplanes.

Need for the Correction

As published, paragraph (i) in the regulatory text of AD 2023-12-03 is incorrect. Paragraph (i) of AD 2023-12-03 refers to “EASA AD 2023-0017.” The correct reference is “EASA AD 2023-0004.”

Related Service Information Under 1 CFR Part 51

EASA AD 2023-0004, dated January 6, 2023, describes new or more restrictive airworthiness limitations for airplane structures and safe life limits. This material is reasonably available because the interested parties have access to it through their normal course of business or by the means identified in the ADDRESSES section.

Correction of Publication

This document corrects an error and correctly adds the AD as an amendment to 14 CFR 39.13. Although no other part of the preamble or regulatory information has been corrected, the FAA is publishing the entire rule in the Federal Register.

The effective date of this AD remains August 7, 2023.

Since this action only corrects an EASA AD reference, it has no adverse economic impact and imposes no additional burden on any person. Therefore, the FAA has determined that notice and public procedures are unnecessary.

List of Subjects in 14 CFR Part 39

Air transportation, Aircraft, Aviation safety, Incorporation by reference, Safety.

Adoption of the Amendment

Accordingly, pursuant to the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA corrects § 39.13 by correcting the airworthiness directive published at 88 FR 42598 (July 3, 2023) to read:

2023-12-03 Airbus SAS: Amendment 39-22461; Docket No. FAA-2023-0927; Project Identifier MCAI-2023-00013-T.

(a) Effective Date

This airworthiness directive (AD) is effective August 7, 2023.

(b) Affected ADs

This AD affects AD 2023-04-05, Amendment 39-22352 (88 FR 13668, March 6, 2023) (AD 2023-04-05).

(c) Applicability

This AD applies to Airbus SAS Model A350-941 and -1041 airplanes, certificated in any category, with an original airworthiness certificate or original export certificate of airworthiness issued on or before November 1, 2022.

(d) Subject

Air Transport Association (ATA) of America Code: 05, Time Limits/Maintenance Checks.

(e) Unsafe Condition

This AD was prompted by a determination that new or more restrictive airworthiness limitations are necessary. The FAA is issuing this AD to address reduced structural integrity of the airplane.

(f) Compliance

Comply with this AD within the compliance times specified, unless already done.

(g) Requirements

Except as specified in paragraph (h) of this AD: Comply with all required actions and compliance times specified in, and in accordance with, European Union Aviation Safety Agency (EASA) AD 2023-0004, dated January 6, 2023 (EASA AD 2023-0004).

(h) Exceptions to EASA AD 2023-0004

(1) This AD does not adopt the requirements specified in paragraphs (1) and (2) of EASA AD 2023-0004.

(2) Paragraph (3) of EASA AD 2023-0004 specifies revising “the approved AMP” within 12 months after its effective date, but this AD requires revising the existing maintenance or inspection program, as applicable, within 90 days after the effective date of this AD.

(3) The initial compliance time for doing the tasks specified in paragraph (3) of EASA 2023-0004 is on or before the applicable “associated thresholds” as incorporated by the requirements of paragraph (3) of EASA AD 2023-0004, or within 90 days after the effective date of this AD, whichever occurs later.

(4) This AD does not adopt the provisions specified in paragraph (4) of EASA AD 2023-0004.

(5) This AD does not adopt the “Remarks” section of EASA AD 2023-0004.

(i) Provisions for Alternative Actions and Intervals

After the existing maintenance or inspection program has been revised as required by paragraph (g) of this AD, no alternative actions (e.g., inspections) and intervals are allowed unless they are approved as specified in the provisions of the “Ref. Publications” section of EASA AD 2023-0004.

(j) Terminating Action for AD 2023-04-05

Accomplishing the actions required by this AD terminates the corresponding requirements of AD 2023-04-05, for the tasks identified in the service information referenced in EASA AD 2023-0004 only.

(k) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (l) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(l) Additional Information

For more information about this AD, contact Dat Le, Aviation Safety Engineer, FAA, 1600 Stewart Avenue, Suite 410, Westbury, NY 11590; telephone 516-228-7317; email Dat.V.Le@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on August 7, 2023 (88 FR 42598, July 3, 2023).

(i) European Union Aviation Safety Agency (EASA) AD 2023-0004, dated January 6, 2023.

(ii) [Reserved]

(4) For EASA AD 2023-0004, contact EASA, Konrad-Adenauer-Ufer 3, 50668 Cologne, Germany; telephone +49 221 8999 000; email ADs@easa.europa.eu; website easa.europa.eu. You may find this EASA AD on the EASA website at ad.easa.europa.eu.

(5) You may view this service information at the FAA, Airworthiness Products Section, Operational Safety Branch, 2200 South 216th St., Des Moines, WA. For information on the availability of this material at the FAA, call 206-231-3195.

(6) You may view this service information that is incorporated by reference at the National Archives and Records Administration (NARA). For information on the availability of this material at NARA, email fr.inspection@nara.gov, or go to www.archives.gov/federal-register/cfr/ibr-locations.html.

Issued on August 1, 2023.
Victor Wicklund,
Deputy Director, Compliance & Airworthiness Division, Aircraft Certification Service.

[FR Doc. 2023-16884 Filed 8-3-23; 11:15 am]

BILLING CODE 4910-13-P